DEPARTMENT OF DEFENSE

Office of the Secretary

[Docket ID DoD-2008-OS-0136]

Privacy Act of 1974; System of Records

AGENCY: Office of the Secretary, DoD.

ACTION: Notice to Alter a System of Records.

SUMMARY: The Office of the Secretary of Defense is altering a system of records notice in its existing inventory of record systems subject to the Privacy Act of 1974 (5 U.S.C. 552a), as amended.

DATES: This proposed action will be effective without further notice on December 12, 2008 unless comments are received which result in a contrary determination.

ADDRESSES: Send comments to the Office of the Secretary of Defense, Privacy Act Coordinator, Records Management Section, Washington Headquarters Services, 1155 Defense Pentagon, Washington, DC 20301-1155.

FOR FURTHER INFORMATION CONTACT: Ms. Cindy Allard at (703) 588-2386.

SUPPLEMENTARY INFORMATION: The Office of the Secretary of Defense systems of records notices subject to the Privacy Act of 1974 (5 U.S.C. 552a), as amended, have been published in the Federal Register and are available from the address above.

The proposed system report, as required by 5 U.S.C. 552a(r), of the Privacy Act of 1974, as amended, was submitted on October 24, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 3, 2008.
Morgan E. Frazier,
Alternate OSD Federal Register Liaison Officer, Department of Defense.

DHA 06

System name:

USTF Managed Care System (August 23, 1995, 60 FR 43775).

Changes:

* * * * *

System name:

Delete entry and replace with “Designated Provider Managed Care System Records.”

System location:

Delete entry and replace with “Primary location: Office of the Assistant Secretary of Defense (Health Affairs), Deputy Director (TRICARE Management Activity), Chief, Health Plan Operations, Deputy Chief TRICARE Operations, Director Program Operations, Designated Provider Program Manager, Skyline Five, Suite 810, 5111 Leesburg Pike, Falls Church, VA 22041-3201.

Secondary locations:

Designated Provider Data Contract Site: Apptis, Inc., 5201 Leesburg Pike Skyline Three, Suite 600, Falls Church, VA 22741-3206.

Subcontractors: Ingenix, 12125 Technology Drive, Eden Prairie, MN 55344-7302; DefenseWeb Technologies, 4150 Mission Blvd., Suite 220, San Diego, CA 92109-5054.

Designated Provider Management Office Sites: Martin's Point Health Care, 331 Veranda Street, Portland, ME 04103-5040; Brighton Marine Health Center, 77 Warren Street, Boston, MA 02135-9862; St. Vincent Catholic Medical Centers of New York, 450 West 33rd Street, New York, NY 10001-2603; Johns Hopkins Medical Services Corporation, 6704 Curtis Court, Glen Burnie, MD 21060-6406; CHRISTUS Health, 2600 North Loop West, Houston, TX 77092-8914; Pacific Medical Clinics, 1200 12th Avenue South, Seattle, WA 98144-2790.”

Categories of individuals covered by the system:

Delete entry and replace with “Individuals eligible to participate in, and who have elected to enroll in the Uniformed Services Family Health Plan (USFHP) of the Department of Defense Military Health Services of Managed Care System.”

Categories of records in the system:

Delete entry and replace with “Enrollment Records: Electronic files containing beneficiary ID, name, Social Security Number (SSN), date of birth, gender, sponsor status (active duty or retired), relationship to sponsor, sponsor pay grade, sponsor name and Social Security Number (SSN), state/country, zip code, and program enrollment information (i.e., date of enrollment, expiration of enrollment, program enrolled in, etc.).

Management Clinical Data Records: Electronic files containing Uniformed Services Family Health Plan of the Department of Defense Military Health Services of Managed Care System, System identifier, beneficiary ID, name, Social Security Number (SSN), other demographics (i.e., county, state, zip code, coverage area for Uniformed Services Family Health Plan, healthcare services, healthcare provider, and financial information (e.g., Diagnosis-Related Groups and uniformed service beneficiaries cost share).

Medicare Claims Records: Electronic files containing claim identifiers, beneficiary ID, county, state, zip code, healthcare services, healthcare provider, and cost of healthcare and procedure retained for two years for analysis of cost trends.”

Authority for maintenance of the system:

Delete entry and replace with “DoD 6025.18-R, DoD Health Information Privacy Regulation; Public Law 104-201, § 722-726; Health Insurance Portability and Accountability Act of 1996 (HIPAA); 10 U.S.C. 1102, Confidentiality of Medical Quality Assurance Records: Qualified Immunity for Participants; and E.O. 9397 (SSN).”

Purpose(s):

Delete entry and replace with “The system is used to administer the Uniformed Services Family Health Plan of the Department of Defense Military Health Services of Managed Care System. It identifies eligible beneficiaries enrolled in Uniformed Services Family Health Plan managed care programs and records healthcare services provided and payments made on behalf of eligible uniformed services health beneficiaries. Additional management functions enable DoD Healthcare Officials to use information in the system at individual and aggregate levels to monitor quantity and type of healthcare provided and to analyze and study the cost effectiveness of the Uniformed Services Family Health Plan of the Department of Defense Military Health Services of Managed Care System.”

Routine uses of records maintained in the system, including categories of users and the purposes of such uses:

Delete entry and replace with “Disclosures to Center for Medicare and Medicaid Services (CMS), to detect duplicate or overlapping payments made by Medicare.

Disclosures to National Oceanic Service, United States Public Health Service, United States Coast Guard, and National Oceanic and Atmospheric Administration to track services provided to their uniformed service personnel and beneficiaries.

The ‘Blanket Routine Uses’ set forth at the beginning of OSD's compilation of systems of records notices also apply to this system.

Note: This system of records contains individually identifiable health information. The DoD 6025.18-R, “DoD Health Information Privacy Regulation” issued pursuant to the Health Insurance Portability and Accountability Act of 1996, applies to most such health information and may place additional procedural requirements on the uses and disclosures of such information beyond those found in the Privacy Act of 1974 or mentioned in this system of records notice.”

Storage:

Delete entry and replace with “Electronic storage media and paper records in file folders.”

Retrievability:

Delete entry and replace with “Patient or sponsor's surname and/or Social Security Number (SSN).”

Safeguards:

Delete entry and replace with “Records are maintained in a controlled area accessible only to authorized personnel. Entry to this area is restricted to personnel with a valid requirement and authorization to enter. Physical entry is restricted by the use of a cipher lock on the entrance to the room. Personal data maintained at the back-up site is stored in a secure area. Access to personal data records is restricted to those individuals who require the records in the performance of official duties and to those records that are the subject of official duties. Access is restricted by passwords that are changed every ninety days.”

Retention and disposal:

Delete entry and replace with “Paper records are closed out at the end of the calendar year in which finalized and held six additional years and then destroyed. Where hard copy records have been converted to electronic, microfilm, imaging, or optical formats, the hard copy record is destroyed and the electronic, microfilm, imaging, or optical format is kept by the contractor for six years after claim is processed to completion and then destroyed. Storage media containing data with personal identifiers will be erased (degaussed) after the inactive record retention. Paper records are forwarded to the National Records Archives, and are maintained.”

System manager(s) and address:

Delete entry and replace with “Designated Program Manager, TRICARE Management Activity, Skyline 5, Suite 810, 5111 Leesburg Pike, Falls Church, VA 22041-3238.”

Notification procedure:

Delete entry and replace with “Individuals seeking to determine whether information about themselves is contained in this system should address written inquiries to the Deputy Chief, TRICARE Operations, Skyline 5, Suite 810, 5111 Leesburg Pike, Falls Church, VA 22041-3238.

The request should contain the full name of the patient and sponsor, sponsor's Social Security Number (SSN), patient's date of birth, Defense Enrollment/Eligibility Reporting System dependent suffix, gender, treatment facility(ies), and calendar year(s) of interest.”

Record access procedures:

Delete entry and replace with “Individuals seeking access to information about themselves contained in this system should address written inquiries to the OSD/JS FOIA Requester Service Center, 1155 Defense Pentagon, Washington, DC 20301-1155.

The request should contain the full names of the patient and sponsor, sponsor's Social Security Number (SSN), patient's date of birth, Defense Enrollment/Eligibility Reporting System dependent suffix, gender, treatment facility(ies), and calendar year(s) of interest.”

* * * * *

DHA 06

System name:

Designated Provider Managed Care System Records.

System location:

Primary location: Office of the Assistant Secretary of Defense (Health Affairs), Deputy Director (TRICARE Management Activity), Chief, Health Plan Operations, Deputy Chief TRICARE Operations, Director Program Operations, Designated Provider Program Manager, Skyline Five, Suite 810, 5111 Leesburg Pike, Falls Church, VA 22041-3201.

Secondary locations: Designated Provider Data Contract Site: Apptis, Inc., 5201 Leesburg Pike Skyline Three, Suite 600, Falls Church, VA 22741-3206.

Subcontractors: Ingenix, 12125 Technology Drive, Eden Prairie, MN 55344-7302; DefenseWeb Technologies, 4150 Mission Blvd, Suite 220, San Diego, CA 92109-5054.

Designated Provider Management Office Sites: Martin's Point Health Care, 331 Veranda Street, Portland, ME 04103-5040; Brighton Marine Health Center, 77 Warren Street, Boston, MA 02135-9862; St. Vincent Catholic Medical Centers of New York, 450 West 33rd Street, New York, NY 10001-2603; Johns Hopkins Medical Services Corporation, 6704 Curtis Court, Glen Burnie, MD 21060-6406; CHRISTUS Health, 2600 North Loop West, Houston, TX 77092-8914; Pacific Medical Clinics, 1200 12th Avenue South, Seattle, WA 98144-2790.

Categories of individuals covered by the system:

Individuals eligible to participate in, and who have elected to enroll in the Uniformed Services Family Health Plan (USFHP) of the Department of Defense Military Health Services of Manage Care System.

Categories of records in the system:

Enrollment Records: Electronic files containing beneficiary ID, name, Social Security Number (SSN), date of birth, gender, sponsor status (active duty or retired), relationship to sponsor, sponsor pay grade, sponsor name and Social Security Number (SSN), state/country, zip code, and program enrollment information (i.e., date of enrollment, expiration of enrollment, program enrolled in, etc.).

Management Clinical Data Records: Electronic files containing Uniformed Services Family Health Plan of the Department of Defense Military Health Services of Manage Care System, System identifier, beneficiary ID, name, Social Security Number (SSN), other demographics (i.e., county, state, zip code, coverage area for Uniformed Services Family Health Plan, healthcare services, healthcare provider, and financial information (e.g., Diagnosis-Related Groups and uniformed service beneficiaries cost share.)

Medicare Claims Records: Electronic files containing claim identifiers, beneficiary ID, county, state, zip code, healthcare services, healthcare provider, and cost of healthcare and procedure retained for two years for analysis of cost trends.

Authority for maintenance of the system:

DoD 6025.18-R, DoD Health Information Privacy Regulation; Public Law 104-201, § 722-726; Health Insurance Portability and Accountability Act of 1996 (HIPAA); 10 U.S.C. 1102, Confidentiality of Medical Quality Assurance Records: Qualified Immunity for Participants; and E.O. 9397 (SSN).

Purpose(s):

The system is used to administer the Uniformed Services Family Health Plan of the Department of Defense Military Health Services of Managed Care System. It identifies eligible beneficiaries enrolled in Uniformed Services Family Health Plan managed care programs and records healthcare services provided and payments made on behalf of eligible uniformed services health beneficiaries. Additional management functions enable DoD Healthcare Officials to use information in the system at individual and aggregate levels to monitor quantity and type of healthcare provided and to analyze and study the cost effectiveness of the Uniformed Services Family Health Plan of the Department of Defense Military Health Services of Managed Care System.

Routine uses of records maintained in the system, including categories of users and the purposes of such uses:

Disclosures to Center for Medicare and Medicaid Services (CMS), to detect duplicate or overlapping payments made by Medicare.

Disclosures to National Oceanic Service, United States Public Health Service, United States Coast Guard, and National Oceanic and Atmospheric Administration to track services provided to their uniformed service personnel and beneficiaries.

The “Blanket Routine Uses” set forth at the beginning of OSD's compilation of systems of records notices also apply to this system.

Note: This system of records contains individually identifiable health information. The DoD 6025.18-R, “DoD Health Information Privacy Regulation” issued pursuant to the Health Insurance Portability and Accountability Act of 1996, applies to most such health information and may place additional procedural requirements on the uses and disclosures of such information beyond those found in the Privacy Act of 1974 or mentioned in this system of records notice.

Policies and practices for storing, retrieving, accessing, retaining and disposing of records in the system:

Storage:

Electronic storage media and paper records in file folders.

Retrievability:

Patient or sponsor's surname and/or Social Security Number (SSN).

Safeguards:

Records are maintained in a controlled area accessible only to authorized personnel. Entry to this area is restricted to personnel with a valid requirement and authorization to enter. Physical entry is restricted by the use of a cipher lock on the entrance to the room. Personal data maintained at the back-up site is stored in a secure area. Access to personal data records is restricted to those individuals who require the records in the performance of official duties and to those records that are the subject of official duties. Access is restricted by passwords that are changed every ninety days.

Retention and disposal:

Paper records are closed out at the end of the calendar year in which finalized and held six additional years and then destroyed. Where hard copy records have been converted to electronic, microfilm, imaging, or optical formats, the hard copy record is destroyed and the electronic, microfilm, imaging, or optical format is kept by the contractor for six years after claim is processed to completion and then destroyed. Storage media containing data with personal identifiers will be erased (degaussed) after the inactive record retention. Paper records are forwarded to the National Records Archives, and are maintained.

System manager(s) and address:

Designated Program Manager, TRICARE Management Activity, Skyline 5, Suite 810, 5111 Leesburg Pike, Falls Church, VA 22041-3238.

Notification procedure:

Individuals seeking to determine whether information about themselves is contained in this system should address written inquiries to the Deputy Chief, TRICARE Operations, Skyline 5, Suite 810, 5111 Leesburg Pike, Falls Church, VA 22041-3238.

The request should contain the full name of the patient and sponsor, sponsor's Social Security Number (SSN), patient's date of birth, Defense Enrollment/Eligibility Reporting System dependent suffix, gender, treatment facility(ies), and calendar year(s) of interest.

Record access procedures:

Individuals seeking access to information about themselves contained in this system should address written inquiries to the OSD/JS FOIA Requester Service Center, 1155 Defense Pentagon, Washington, DC 20301-1155.

The request should contain the full names of the patient and sponsor, sponsor's Social Security Number (SSN), patient's date of birth, Defense Enrollment/Eligibility Reporting System dependent suffix, gender, treatment facility(ies), and calendar year(s) of interest.

Contesting record procedures:

The OSD's rules for accessing records, for contesting contents and appealing initial agency determinations are published in OSD Administrative Instruction 81; 32 CFR part 311, Office of the Secretary of Defense, OSD Privacy Program; or may be obtained from the system manager.

Record source categories:

Uniformed Services Family Health Plan enrollment records; medical/hospital information systems, and/or billing systems; eligibility information from the Defense Enrollment/Eligibility Reporting System; claim information from the Center for Medicare and Medicaid; beneficiary information from National Oceanic and Atmospheric Administration; National Oceanic Service; U.S. Coast Guard; and U.S. Public Health Service.

Exemptions claimed for the system:

None.

[FR Doc. E8-26751 Filed 11-10-08; 8:45 am]

BILLING CODE 5001-06-P